DEPARTMENT OF THE INTERIOR

National Park Service

[NPS-WASO-NRSS-EQD-SSB-NPS0036754; PPAKWEARS2, PPMPRLE1Z.LS0000 (200); OMB Control Number 1024-0262]

Agency Information Collection Activities; Submission to the Office of Management and Budget for Review and Approval; Community Harvest Assessments for Alaskan National Parks, Preserves, and Monuments

AGENCY: National Park Service, Interior.

ACTION: Notice of information collection; request for comment.

SUMMARY: In accordance with the Paperwork Reduction Act of 1995, we, the National Park Service (NPS) are proposing to renew an information collection.

DATES: Interested persons are invited to submit comments on or before January 8, 2024.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 13461 Sunrise Valley Drive, (MS 244) Reston, VA 20192, VA 20191 (mail); or phadrea_ponds@nps.gov (email). Please reference OMB Control Number 1024-0262 in the subject line of your comments.

FOR FURTHER INFORMATION CONTACT: To request additional information about this ICR, contact Nicole Braem, Cultural Anthropologist, Bering Land Bridge National Preserve, Nome, AK 99762; or at nicole_braem@nps.gov (email); or 907-443-6107 (telephone). Please reference OMB Control Number 1024-0262 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 22, 2023, (88 FR 10934). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Under the provisions of the Alaska National Interest Lands Conservation Act (ANILCA), qualified rural residents are provided the opportunity to harvest fish, wildlife, and other subsistence resources in national parks, preserves, and monuments in Alaska. The NPS is seeking an extension to continue surveying Alaska residents who customarily and traditionally engage in subsistence activities within NPS units.

The collection includes the following Alaskan National Parks, Preserves, and Monuments: (1) Aniakchak National Monument (ANIA), (2) Bering Land Bridge National Preserve (BELA), (3) Cape Krusenstern National Monument (CAKR), (4) Gates of the Arctic National Park and Preserve (GAAR), (5) Kobuk Valley National Park (KOVA), (6) Noatak National Preserve (NOAT), (7) Wrangell-St. Elias National Park and Preserve (WRST), and (9) Yukon-Charley Rivers National Preserve (YUCH). This survey is conducted through in-person interviews. A facilitator collects information about harvests, uses, and sharing of subsistence resources. Search and harvest areas are also mapped over the course of the interview. The information from this collection will be used by the NPS, the Federal Subsistence Board, the State of Alaska, and local/regional advisory councils in making recommendations and informing decisions regarding seasons and harvest limits of fish, wildlife, and plants in the region which communities have customarily and traditionally used.

With this renewal, we are clarifying questions in the Food Security Section of the survey about harvesting Salmon for food, and Black and Brown Bear for both food and fur. Both are legal subsistence uses of the resource.

Title of Collection: Community Harvest Assessments for Alaskan National Parks, Preserves, and Monuments.

OMB Control Number: 1024-0262.

Form Number: None.

Total Estimated Number of Annual Respondents: 2,359.

Total Estimated Number of Annual Responses: 2,359.

Estimated Completion Time per Response: Varies from 10 minutes (initial contact) to 1 hour (in-person interviews).

Total Estimated Number of Annual Burden Hours: 1,972 hours.

Type of Review: Extension of a currently approved collection.

Respondent's Obligation: Voluntary.

Frequency of Collection: One-time.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-26864 Filed 12-6-23; 8:45 am]

BILLING CODE 4312-52-P